DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 12, 2009. Address written comments to Statutory Import Programs Staff, Room 3720, U.S. Department of Commerce, Washington, D.C. 20230. Applications may be examined between 8:30 A.M. and 5:00 P.M. at the U.S. Department of Commerce in Room 3720.

Docket Number: 09-009. Applicant: University of North Carolina at Charlotte, 9201 University City Blvd., Charlotte, NC 28223. Instrument: Electron Microscope. Manufacturer: JEOL, Japan. Intended Use: The instrument will be used to study materials such as metals, semiconductors, polymers, composites, ceramic, biological material and nanostructured materials. Justification for Duty-Free Entry: No U.S.-made instruments of same general category. Application accepted by Commissioner of Customs: March 30, 2009.

Docket Number: 09-010. Applicant: Indiana University, 400 East Seventh St., Room 403, Bloomington, IN 47408. Instrument: Electron Microscope. Manufacturer: FEI Company, the Netherlands. Intended Use: The instrument will be used to visualize materials that have been fabricated or synthesized and have feature sizes that cannot be seen by eye or an optical microscope. Justification for Duty-Free Entry: No U.S.-made instruments of same general category. Application accepted by Commissioner of Customs: March 30, 2009.

Docket Number: 09-011. Applicant: Carnegie Mellon University, 5000 Forbes Ave., Pittsburgh, PA 15213. Instrument: Electron Microscope. Manufacturer: FEI Company, the Netherlands. Intended Use: The instrument will be used study atomic spacing on orientations in crystalline materials, which requires a microscope capable of resolution below .1nm. Justification for Duty-Free Entry: No comparable instrument manufactured domestically. Application accepted by Commissioner of Customs: March 30, 2009.

Docket Number: 09-012. Applicant: Ohio State University Medical Center, M018 Starling Loving Hall, 320 W. 10th Ave., Columbus, OH 43210. Instrument: Electron Microscope. Manufacturer: JEOL, Ltd., Japan. Intended Use: The instrument will be used study biological materials such as tissue cultures, animal organs and human biopsy specimens. Experiments may include routine ultrastructual examination, immune-gold immunocytochemistry and negative staining of particulate matter. Justification for Duty-Free Entry: No comparable instrument manufactured domestically. Application accepted by Commissioner of Customs: April 7, 2009.

Dated: April 16, 2009.
Christopher Cassel,
Acting Director, IA Subsidies Enforcement Office.

[FR Doc. E9-9286 Filed 4-21-09; 8:45 am]

BILLING CODE 3510-DS-S